DEPARTMENT OF HOUSING AND URBAN DEVELOPMENT

[Docket No. FR-7011-C-12]

14-Day Notice of Emergency Approval of Information Collection: The Housing Counseling Program; Correction

AGENCY: Office of the Chief Information Officer, HUD.

ACTION: Correction.

SUMMARY: On April 25, 2019 at 84 FR 17419, HUD published a 14-day emergency notice of proposed information collection entitled, “The Housing Counseling Program” (FR-7011-N-12) (FR Doc. 2019-08371). The notice contained the incorrect burden hours. The correct burden hours should be 20,224. Today's notice corrects the 14-day notice published on April 25, 2019.

FOR FURTHER INFORMATION CONTACT: Colette Pollard, Reports Management Officer, Department of Housing and Urban Development, 451 7th Street SW, Washington, DC 20410; email Colette.pollard@hud.gov or telephone (202) 402-3400. This is not a toll-free number. Persons with hearing or speech impairments may access this number through TTY by calling the toll-free Federal Relay Service at (800) 877-8339.

Dated: April 30, 2019.
Colette Pollard,
Department Reports Management Officer, Office of the Chief Information Officer.

[FR Doc. 2019-09236 Filed 5-3-19; 8:45 a.m.]

BILLING CODE 4210-67-P